SOCIAL SECURITY ADMINISTRATION

20 CFR Part 422

[Docket No. SSA-2014-0042]

RIN 0960-AH68

Social Security Number Card Applications

AGENCY: Social Security Administration.

ACTION: Final rule.

SUMMARY: This final rule adopts the notice of proposed rulemaking (NPRM) we published in the Federal Register on February 26, 2015. This rule revises our regulations to allow applicants for a Social Security number (SSN) card to apply by completing a prescribed application and submitting the required evidence. We are also removing the word “documentary” from our description of certain evidence requirements and replacing “Immigration and Naturalization Service” with “Department of Homeland Security” to reflect that agency's creation. These changes will provide more flexibility in the ways in which the public may request SSN cards and allow us to implement an online SSN replacement card application system.

DATES: This rule is effective September 9, 2015.

FOR FURTHER INFORMATION CONTACT: Arthur LaVeck, Office of Retirement and Disability Policy, Office of Income Security Programs, Social Security Administration, 6401 Security Boulevard, Baltimore, MD 21235-6401, (410) 966-5665. For information on eligibility or filing for benefits, call our national toll-free number, 1-800-772-1213 or TTY 1-800-325-0778, or visit our Internet site, Social Security Online, at http://www.socialsecurity.gov.

SUPPLEMENTARY INFORMATION: The use of the SSN is widespread in today's society. It is necessary for employment, to record properly a person's wages and the taxes paid on those wages, to collect Social Security benefits, and to receive many other government services. Commercial organizations, such as banks and credit companies, also ask individuals for their SSNs for many business transactions. Because of this widespread use, the issuance of original and replacement SSN cards is one of our most requested services.

Currently, a person can apply for an SSN by completing Form SS-5 and submitting it, in person or via mail, to his or her local field office (FO) or a Social Security Card Center, or by having one of our representatives file an application electronically through the Social Security Number Application Process during an in-office interview. The applicant must also present, or mail in, supporting documentary evidence.

To ensure that our regulations support the development of convenient and efficient electronic service delivery options, we are updating 20 CFR 422.103 and 422.110 to remove the requirement that an individual who seeks a replacement SSN card must file an application at any Social Security office. We are also removing references to Form SS-5 and replacing it with the term “prescribed application.” A prescribed application would simply be the application form—whether a paper form, an online application, or some other method—that we determine to be most efficient and user-friendly at any given time. Information about application procedures is easily available to applicants on our Internet site and at our offices nationwide.

We are also revising 20 CFR 422.107 to remove the word “documentary” from our description of evidence required to obtain an original or replacement SSN card. In order to obtain a new or replacement card, applicants may provide or we may obtain evidence to establish eligibility and identity through data matches or other agreements with government agencies or other entities that we determine can provide us with appropriate and secure verification of the applicant's true identity and other eligibility factors. These changes will provide us the flexibility to adapt our SSN application process as necessity and technology allow.

We are developing and will release—via a gradual, state-by-state rollout—a new online application that will allow adult U.S. citizens who are not reporting any changes to their record (for example, name or date of birth) to apply for replacement SSN cards electronically online after registering through the my Social Security portal. Eligible individuals would also be required to have a U.S. mailing address, (including Air/Army Post Office and Fleet Post Office) and a valid U.S. state-issued driver's license or U.S. state-issued identity card.

Our new electronic SSN replacement card application will expand our service options to meet the varied needs of the public in a cost-efficient and environmentally responsible way, while maintaining the security and integrity of the SSN replacement card issuance process. The application will allow customers to complete a request for a replacement SSN card at any time, without the need to travel, sometimes long distances, to apply in person. We also anticipate that this initiative will contribute to shorter wait times for individuals who choose to visit an FO for service.

We are also making a technical change to § 422.107(e)(1) to replace references to the “Immigration and Naturalization Service” with “Department of Homeland Security” to reflect that agency's restructuring in 2003. This is not a substantive change, but merely makes our rules consistent with the current organizational structure of the government.

Public Comments

On February 26, 2015, we published an NPRM in the Federal Register at 80 FR 10432 and provided a 60-day comment period. We received 17 comments on the proposed rule.¹ We present all of the views received and address all of the relevant and significant issues raised by the commenters. We carefully considered the concerns expressed in these comments. We have made no changes to the proposed regulatory language based on the comments we received.

¹ The electronic rulemaking docket for this rule (available at: http://www.regulations.gov/#!docketDetail;D=SSA-2014-0042) indicates that we received 205 comments on the proposed rule. Of those 205 comments, 188 were not relevant to this rulemaking proceeding. These comments came from an individual who submitted personal documents and complained about a non-Social Security-related matter. We have not included these 188 comments in the electronic rulemaking docket and have not responded to them here.

Online SSN Replacement Card Applications

Commenters overwhelmingly supported our initiative to allow for electronic applications for replacement SSN cards. Many discussed how the initiative would provide greater access to those who need to travel long distances to reach their local FOs. Most also wrote about how the initiative would simplify and speed up the process of applying for replacement SSN cards and would reduce processing time and repeated trips to FOs due to inadvertent mistakes, such as missing or incorrect identification.

At the same time, most commenters emphasized the need to ensure the security of data during the SSN replacement card online application process. Specifically, commenters expressed concerns regarding hacking, identity theft, and fraud prevention.

Response: We understand the extraordinary breadth and sensitivity of the personally identifiable information we possess in our systems and we have always taken our responsibility for protecting that information very seriously. Over the past several years, we have developed a number of online applications that allow members of the public to apply for benefits or conduct other business with us through Internet-based applications. When we design these Internet-based applications, we take a number of steps to ensure that the data provided to us is secure. Since May 2012, we have allowed the electronic exchange with individuals of their own personal information for their own exclusive use through our my Social Security portal without any breach to our data. We use a multi-layered security framework, redundant processes, and specialized technologies to ensure the security of the data we receive. In addition, we constantly monitor all online activity to ensure proper use of agency Web sites, portals, and applications. In the event we identify any suspicious activity, we take prompt and aggressive steps to quarantine the activity and mitigate any risks to our systems or personal records.

We also take our fraud prevention responsibility very seriously. We verify customer identity using information available via a variety of data sources to ensure that all online communication is with the proper individual. We are fully compliant with the Office of Management and Budget's (OMB) e-authentication guidance for Federal agencies and the National Institute of Standards and Technology's (NIST) electronic authentication guidelines.² In addition to our adherence to the OMB and NIST controls, we operate under a multi-layered security approach that provides due diligence for the users of my Social Security. Included in our approach is an authentication risk assessment process established by OMB's guidance, that determines the appropriate level of assurance for all of our electronic transactions. Once we determine the appropriate level of assurance needed for each transaction, we determine the technology and authentication strategy. This strategy may include sending a written notification to the verified address for everyone who creates a my Social Security account.

² OMB M-04-04, E-Authentication Guidance for Federal Agencies; NIST Special Publication 800 63-2, Electronic Authentication Guideline.

We employ a dynamic enterprise-wide cyber security program and leverage a defense-in-depth strategy. We work diligently to detect attacks, identify suspicious activities, and systematically respond to software and hardware vulnerabilities as they are identified. We collaborate with White House national security staff, the Federal Chief Information Officer, the Department of Homeland Security's United States Computer Emergency Readiness Team, and various law enforcement agencies to address cyber threats.

In the event that we detect suspicious activity, we will refer the customer to the local Social Security office for in-person assistance.

Evidentiary Requirements and Removal of the Word “Documentary”

Comment: Four individuals specifically stated their support for the removal of the word “documentary” from 20 CFR 422.107 and the flexibility it would provide us for appropriately and securely verifying applicants' true identity and other eligibility factors. Other commenters expressed unease about the possibility of fraud resulting from the removal of the word “documentary.” Of those who expressed unease, some of the commenters were concerned about how the public would “interpret” removing the word “documentary” and what it “impli[es]” about the evidence we require in order to obtain an original or replacement card. Other commenters were concerned that illegal immigrants would be able to obtain SSNs by providing false information, were unsatisfied with the evidence of identity required under § 422.107(c), or suggested that no child should get a card without appearing in person.

Response: Our proposed rule did not change the evidentiary requirements needed to obtain an original or replacement SSN card but simply provided us and the public with different options for verifying an applicant's true identity and other eligibility factors, as appropriate. We will continue to require the same evidence to establish citizenship, age, and identity in order to obtain a new or replacement SSN card. Under our new rules, applicants may provide, or we may obtain, this evidence through data matches or other agreements with government agencies or other entities that we determine can provide us with appropriate and secure verification of the applicant's true identity and other eligibility factors. Removal of the word “documentary” does not imply any modification to the evidentiary requirements established in § 422.107, nor should it result in any interpretation other than the plain language in that section.

We process the vast majority of original SSN applications for children as part of the official birth registration process described in § 422.103(a)(2) that generally takes place at a U.S. hospital shortly after a child's birth. While we may not require a child to visit a Social Security office in the few instances when we do not assign an SSN through the birth registration process, we follow robust evidence review and verification policies in our SSN issuance process for children. When we do not assign SSNs for children as part of the official birth registration process, the parent or proper applicant must submit evidence about the child to satisfy the same requirements as adults. In addition, the proper applicant must establish relationship to and custody or responsibility for the child, and must submit evidence of his or her own identity. We visually inspect all evidence for authenticity. In addition, under the Intelligence Reform Terrorism and Prevention Act of 2014 we must verify U.S. birth records with the custodian of the record before we process the SSN application.³ We verify immigration documents directly with the Department of Homeland Security if the child is a non-citizen.

³ Public Law 108-458, 118 Stat. 3638.

Replacing Reference to Immigration and Naturalization Service With Department of Homeland Security

Comment: One commenter stated a concern with our updating 20 CFR 422.107(e)(1) to replace references to Immigration and Naturalization Service (INS) with Department of Homeland Security (DHS) and requested a greater explanation as to why there is a need to do so.

Response: We have not made any changes to the proposed rule in response to this comment. Section 422.107(e)(1) of our current regulations discusses what evidence we will accept to verify alien status, specifically evidence issued by the Immigration and Naturalization Service in accordance with that agency's regulations. On March 1, 2003, pursuant to the Homeland Security Act of 2002, the pertinent functions of the former INS were transferred to the newly formed DHS. We are not changing the evidence we require, but are simply updating the name of the agency responsible for issuing the evidence to applicants.

Regulatory Procedures

Executive Order 12866, as Supplemented by Executive Order 13563

We consulted with the Office of Management and Budget (OMB) and determined that this final rule meets the criteria for a significant regulatory action under Executive Order 12866, as supplemented by Executive Order 13563, and was reviewed by OMB.

Regulatory Flexibility Act

We certify that this final rule would not have a significant economic impact on a substantial number of small entities because it would affect individuals only. Therefore, a regulatory flexibility analysis is not required under the Regulatory Flexibility Act, as amended.

Paperwork Reduction Act

Although the regulatory changes described below are not subject to OMB clearance under the Paperwork Reduction Act (PRA), the new electronic SSN replacement card application will require OMB PRA approval. We sought public comment in two separate PRA Federal Register Notices (FRN) for the new electronic process under OMB No. 0960-0066 (the first Notice published on 04/30/15 at 80 FR 24307, and the second Notice published on 06/29/15 at 80 FR 37033). We completed the PRA OMB clearance process by submitting the documentation to OMB on 06/29/15, and we will wait for OMB's approval before we implement the electronic SSN replacement card application. The public had an opportunity to review and comment on the electronic SSN replacement card application through those FRNs.

(Catalog of Federal Domestic Assistance Program Nos. 96.001, Social Security—Disability Insurance; 96.002, Social Security—Retirement Insurance; 96.004, Social Security Survivors Insurance; 96.006, Supplemental Security Income; 96.020, Special Benefits for Certain World War II Veterans.)

List of Subjects in 20 CFR Part 422

Administrative practice and procedure, Organization and functions (Government agencies), Reporting and recordkeeping requirements, Social security.

Dated: August 5, 2015.
Carolyn W. Colvin,
Acting Commissioner of Social Security.

For the reasons set out in the preamble, we amend 20 CFR chapter III, part 422, subpart B as set forth below:

PART 422—ORGANIZATION AND PROCEDURES

Subpart B—General Procedures

1. The authority citation for subpart B of part 422 continues to read as follows:

Authority: Secs. 205, 232, 702(a)(5), 1131, and 1143 of the Social Security Act (42 U.S.C. 405, 432, 902(a)(5), 1320b-1, and 1320b-13), and sec. 7213(a)(1)(A) of Pub. L. 108-458.

2. Amend § 422.103 by revising paragraphs (b), (c)(1), and (e)(1) to read as follows:

§ 422.103 Social security numbers.

* * * * *

(b) Applying for a number—(1) Application. An individual needing a Social Security number may apply for one by completing a prescribed application and submitting the required evidence. An individual outside the United States (U.S.) may apply for a Social Security number card at the Department of Veterans Affairs Regional Office, Manila, Philippines, at any U.S. Foreign Service post, or at a U.S. military post outside the United States. (See § 422.106 for special procedures for filing applications with other government agencies.) Additionally, a U.S. resident may apply for a Social Security number for a nonresident dependent when the number is necessary for U.S. tax purposes or some other valid reason, the evidence requirements of § 422.107 are met, and we determine that a personal interview with the dependent is not required.

(2) Birth registration document. We may enter into an agreement with officials of a State, including, for this purpose, the District of Columbia, Puerto Rico, Guam, the U.S. Virgin Islands, and New York City, to establish, as part of the official birth registration process, a procedure to assist us in assigning Social Security numbers to newborn children. Where an agreement is in effect, a parent, as part of the official birth registration process, need not complete a prescribed application and may request that we assign a Social Security number to the newborn child.

(3) Immigration form. We may enter into an agreement with the Department of State (DOS) and the Department of Homeland Security (DHS) to assist us by collecting enumeration data as part of the immigration process. Where an agreement is in effect, an alien need not complete a prescribed application and may request, through DOS or DHS, as part of the immigration process, that we assign a Social Security number and issue a Social Security number card to him or her. An alien will request the assignment of a Social Security number through this process in the manner provided by DOS and DHS.

(c) How numbers are assigned—(1) Application. If you complete a prescribed application, we will require you to furnish evidence, as necessary, to assist us in establishing your age, U.S. citizenship or alien status, true identity, and previously assigned Social Security number(s), if any. (See § 422.107 for evidence requirements.) We may require you to undergo a personal interview before we assign a Social Security number. If you request evidence to show that you have filed a prescribed application for a Social Security number card, we may furnish you with a receipt or equivalent document. We will electronically screen the data from the prescribed application against our files. If we find that you have not been assigned a Social Security number previously, we will assign one to you and issue a Social Security number card. However, if we find that you have been assigned a Social Security number previously, we will issue a replacement Social Security number card.

* * * * *

(e) Replacement of Social Security number card—(1) When we may issue you a replacement card. We may issue you a replacement Social Security number card, subject to the limitations in paragraph (e)(2) of this section. You must complete a prescribed application to receive a replacement Social Security number card. We follow the evidence requirements in § 422.107 when we issue you a replacement Social Security number card.

* * * * *

3. Amend § 422.107 by:

a. Revising paragraphs (a) and (c);

b. In paragraph (e)(1), removing each instance of “Immigration and Naturalization Service” and adding in its place, “Department of Homeland Security”; and

c. Revising paragraph (g).

The revisions read as follows:

§ 422.107 Evidence requirements.

(a) General. To obtain an original Social Security number card, you must submit convincing evidence of your age, U.S. citizenship or alien status, and true identity, as described in paragraphs (b) through (e) of this section. If you apply for a replacement Social Security number card, you must submit convincing evidence of your true identity, as described in paragraph (c) of this section, and you may also be required to submit convincing evidence of your age and U.S. citizenship or alien status, as described in paragraphs (b), (d), and (e) of this section. If you apply for an original or replacement Social Security number card, you are also required to submit evidence to assist us in determining the existence and identity of any previously assigned Social Security number(s). We will not assign a Social Security number or issue an original or replacement card unless we determine that you meet all of the evidence requirements. We require an in-person interview if you are age 12 or older and are applying for an original Social Security number, unless you are an alien who requests a Social Security number as part of the immigration process described in § 422.103(b)(3). We may require an in-person interview of other applicants. All paper or other tangible documents submitted as evidence must be originals or copies of the original documents certified by the custodians of the original records and are subject to verification. We may also verify your eligibility factors, as described in paragraphs (b) through (e) of this section, through other means, including but not limited to data matches or other agreements with government agencies or other entities that we determine can provide us with appropriate and secure verification of your eligibility factors.

* * * * *

(c) Evidence of identity. (1) If you apply for an original Social Security number or a replacement Social Security number card, you are required to submit convincing evidence of your identity. Evidence of identity may consist of a driver's license, identification card, school record, medical record, marriage record, passport, Department of Homeland Security document, or other similar evidence serving to identify you. The evidence must contain sufficient information to identify you, including your name and:

(i) Your age, date of birth, or parents' names; or

(ii) Your photograph or physical description.

(2) A birth record is not sufficient evidence to establish identity for these purposes.

* * * * *

(g) Inability to verify eligibility factors. We will not issue an original or replacement Social Security number card when you present invalid or expired documents or when we are unable to verify the required evidence through other means, as described in paragraph (a) of this section. Invalid documents are either forged documents that supposedly were issued by the custodian of the record, or properly issued documents that were improperly changed after they were issued. An expired document is one that was valid for only a limited time and that time has passed.

4. Amend § 422.110 by revising paragraph (a) to read as follows:

§ 422.110 Individual's request for change in record.

(a) Application. If you wish to change the name or other personal identifying information you previously submitted in connection with an application for a Social Security number card, you must complete a prescribed application, except as provided in paragraph (b) of this section. You must prove your identity, and you may be required to provide other evidence. (See § 422.107 for evidence requirements.) You may complete a request for change in records in the manner we designate, including at any Social Security office, or, if you are outside the U.S., to the Department of Veterans Affairs Regional Office, Manila, Philippines, or to any U.S. Foreign Service post or U.S. military post. If your request is for a change of name on the card (that is, verified legal changes to the first name or surname, or both), we may issue you a replacement Social Security number card bearing the same number and the new name. We will grant an exception to the limitations specified in § 422.103(e)(2) for replacement Social Security number cards representing a change in name or, if you are an alien, a change to a restrictive legend shown on the card. (See § 422.103(e)(3) for the definition of a change to a restrictive legend.)

* * * * *

[FR Doc. 2015-19568 Filed 8-7-15; 8:45 am]

BILLING CODE 4191-02-P